DEPARTMENT OF THE INTERIOR

Central Utah Project Completion Act

AGENCY: Office of the Assistant Secretary—Water and Science, Department of the Interior.

ACTION: Notice of Availability, Draft Environmental Assessment (DEA), Water System Improvements, Federal Riverdell Property, Duchesne and Uintah Counties, Utah.

SUMMARY: The Central Utah Project Completion Act Office proposes to rehabilitate and improve the water deliver system serving the Federal Riverdell property near Myton, Utah, to maintain and improve existing wetland habitats for fish and wildlife mitigation purposes. Three alternative concepts are evaluated, along with the No Action Alternative, without indicating a Proposed Action or preferred alternative. Public comment is invited on all alternatives. A Proposed Action will be developed based on environmental impacts and benefits of each alternative, costs, available funding, and public comments received.

One alternative would abandon the existing river diversion and canal delivery system and relocate the irrigation diversion downstream on the Duchesne River to a point nearer the property. Irrigation water would be delivered to the property from the new location by means of an electrically-powered pump and buried irrigation pipeline. Other features of this alternative include installing perforated drain pipe in a portion of the abandoned delivery canal to collect and redirect agricultural drainwater (that accumulates in and near the Riverdell Canal) through the Riverdell property and back to the Duchesne River.

In addition, a pair of rock sills would be constructed at a strategic location across the Duchesne River to divert high river flows into a remnant oxbow on the property, thereby recharging degraded wetlands formerly sustained by river flows. A second alternative evaluates a minimal cost option that abandons the existing diversion dam and canal, and relocates the point of diversion as in the first alternative. Irrigation water would be delivered to the property from the new location by means of an electrically powered pump and buried irrigation pipe. The third alternative would relocate the diversion point to an upstream location. A new diversion dam and buried pipeline would deliver water to the property by gravity flow along the existing canal alignment. Pumping of water would not be included in this alternative.

The public is invited to submit comments on the adequacy of the DEA and the assessment of environmental impacts. Comments received in response to this solicitation will be part of the public record and available for public review pursuant to the Freedom of Information Act (5 U.S.C. 552) and may be released to the public upon request. This will normally include names, addresses, and any other personal information provided with comments. Reviewers may request that personal information be withheld from such releases by so indicating in their letter of comment or by means of separate written communication.

DATES: The DEA will be available for public review and comment for a minimum of thirty (30) calendar days following the publication of this notice. The deadline for submittal of written comments on the DEA will be stated on the cover sheet of the document and noted in the transmittal letter to all reviewers.

FOR FURTHER INFORMATION CONTACT: Additional information on matters related to this Federal Register notice can be obtained by contacting Mr. Ralph G. Swanson, Program Coordinator, CUP Completion Act Office, Department of the Interior, 302 East 1860 South, Provo, UT 84606-6154, Telephone: (801) 379-1254, E-mail address: rswanson@uc.usbr.gov.

Dated: January 4, 2002.
Ronald Johnston,
CUP Program Director, Department of the Interior.

[FR Doc. 02-607 Filed 1-9-02; 8:45 am]

BILLING CODE 4310-RK-P